DEPARTMENT OF AGRICULTURE

Animal and Plant Health Inspection Service

[Docket No. APHIS-2014-0042]

Notice of Determination of the Classical Swine Fever, Foot-and-Mouth Disease, Rinderpest, and Swine Vesicular Disease Status of Croatia

AGENCY: Animal and Plant Health Inspection Service, USDA.

ACTION: Notice.

SUMMARY: We are adding Croatia to the lists of regions that are considered free of foot-and-mouth disease, rinderpest, and swine vesicular disease, and to the list of regions considered free or low risk for classical swine fever. We are taking this action because we have determined that this region is free of foot-and-mouth disease, rinderpest, and swine vesicular disease, and is low risk for classical swine fever. This action establishes the disease status of Croatia with regard to foot-and-mouth disease, rinderpest, swine vesicular disease, and classical swine fever while continuing to protect the United States from an introduction of those diseases.

DATES: Effective November 23, 2015.

FOR FURTHER INFORMATION CONTACT: Mr. Donald Link, Import Risk Analyst, Regionalization Evaluation Services, National Import Export Services, Veterinary Services, APHIS, 920 Main Campus Drive, Suite 200, Raleigh, NC 27606; (919) 855-7731; Donald.B.Link@aphis.usda.gov.

SUPPLEMENTARY INFORMATION:

Background

The regulations in 9 CFR part 94 (referred to below as the regulations) govern the importation of certain animals and animal products into the United States to prevent the introduction of various animal diseases, including classical swine fever (CSF), foot-and-mouth disease (FMD), rinderpest, and swine vesicular disease (SVD). The regulations prohibit or restrict the importation of live ruminants and swine, and products from these animals, from regions where these diseases are considered to exist.

Within part 94, § 94.1 contains requirements governing the importation of ruminants and swine from regions where rinderpest or FMD exists and the importation of the meat of any ruminants or swine from regions where rinderpest or FMD exists to prevent the introduction of either disease into the United States. We consider rinderpest and FMD to exist in all regions except those listed in accordance with paragraph (a) of that section as free of rinderpest and FMD. Section 94.9 contains requirements governing the importation of pork and pork products from regions where CSF exists. Section 94.10 contains importation requirements for swine from regions where CSF is considered to exist and designates the Animal and Plant Health Inspection Service (APHIS)-defined European CSF region as a single region of low-risk for CSF. Section 94.31 contains requirements governing the importation of pork, pork products, and swine from the APHIS-defined European CSF region. We consider CSF to exist in all regions of the world except those listed in accordance with paragraph (a) of § 94.9 as free of the disease.

Section 94.11 of the regulations contains requirements governing the importation of meat of any ruminants or swine from regions that have been determined to be free of rinderpest and FMD, but that are subject to certain restrictions because of their proximity to or trading relationships with rinderpest- or FMD-affected regions. Such regions are listed in accordance with paragraph (a) of that section.

Section 94.12 of the regulations contains requirements governing the importation of pork or pork products from regions where SVD exists. We consider SVD to exist in all regions of the world except those listed in accordance with paragraph (a) of that section as free of SVD.

Section 94.13 contains importation requirements governing the importation of pork or pork products from regions that have been declared free of SVD as provided in § 94.12(a) but supplement their national pork supply by the importation of fresh (chilled or frozen) meat of animals from regions where SVD is considered to exist, or have a common border with such regions, or have trade practices that are less restrictive than are acceptable to the United States. Such regions are listed in accordance with paragraph (a) of § 94.13.

Section 94.14 states that no swine which are moved from or transit any region in which SVD is known to exist may be imported into the United States except wild swine imported in accordance with § 94.14(b).

The regulations in 9 CFR part 92, § 92.2, contain requirements for requesting the recognition of the animal health status of a region (as well as for the approval of the export of a particular type of animal or animal product to the United States from a foreign region). If, after review and evaluation of the information submitted in support of the request, APHIS believes the request can be safely granted, APHIS will make its evaluation available for public comment through a document published in the Federal Register.

In accordance with that process, on February 3, 2015, we published in the Federal Register (80 FR 5728-5729, Docket No. APHIS-2014-0042) a notice ¹ announcing the availability for review and comment of our risk evaluation of the CSF, FMD, rinderpest, and SVD status of Croatia. Based on this evaluation, we determined that that the animal disease surveillance, prevention, and control measures implemented by Croatia are sufficient to minimize the likelihood of introducing CSF, FMD, rinderpest, and SVD into the United States via imports of species or products susceptible to these diseases.

¹ To view the notice of availability, risk evaluation, environmental assessment, and comments we received, go to http://www.regulations.gov/#!docketDetail;D=APHIS-2014-0042.

In addition, we determined in our evaluation that Croatia is low risk for CSF and therefore eligible to be added to the APHIS-defined European CSF region. This region is subject to the conditions in § 94.31 for pork, pork products, and swine and § 98.38 for swine semen. We also determined that the provisions of § 94.11 for import conditions for meat or meat products from ruminants or swine from FMD-free regions, and § 94.13 for import conditions for pork or pork products from SVD-free regions, are applicable to Croatia.

With respect to rinderpest, the global distribution of the disease has diminished significantly in recent years as a result of the Food and Agriculture Organization Global Rinderpest Eradication Program. The last known cases of rinderpest worldwide occurred in the southern part of the “Somali pastoral ecosystem” consisting of southern Somalia, eastern Kenya, and southern Ethiopia. In May 2011, the World Organization for Animal Health (OIE) announced its recognition of global rinderpest freedom.

We solicited comments on the notice of availability for 60 days ending on April 6, 2015. We received two comments by that date, both from national pork industry associations. Both commenters raised specific concerns about disease risks regarding our proposed action to recognize Croatia as being free of FMD, rinderpest, and SVD, and low risk for CSF, as this action would allow for the importation into the United States of swine, pork, and pork products from Croatia subject to the regulations. The comments are discussed below.

Smuggling of Prohibited Articles

The commenters noted that international passenger traffic was identified in the APHIS evaluation as a key risk factor for the introduction of the disease hazards. The commenters stated that limited data exists to determine the quantity of prohibited products smuggled into Croatia and that APHIS obtained estimates of international passenger traffic from 2006 data that is no longer current. The commenters requested that we require Croatia to provide updated information on passenger traffic in order to determine if the risk evaluation needs to be modified.

We agree with the commenter that limited data exists regarding smuggling of prohibited products into Croatia. Such data is by its nature limited because the intent of smuggling is to avoid disclosure, documentation, or inspection. We also acknowledge the volume of international passenger traffic into Croatia and agree that the introduction of prohibited products into Croatia could play a role in the transmission of animal diseases. As the commenters requested, we have provided more recent data for passenger traffic into Croatia.

Data available from the World Bank indicates that 9,111,000, 9,927,000, and 10,369,000 international inbound tourists (overnight visitors) entered Croatia in 2010, 2011, and 2012, respectively.² Additional data published by the Organisation for Economic Cooperation and Development (OECD) ³ (see Table 1) indicates total inbound tourism and primary countries of origin for arriving passengers.

² http://data.worldbank.org/indicator/ST.INT.ARVL. The data on inbound tourists refer to the number of arrivals, not to the number of people traveling. Thus a person who makes several trips to a country during a given period is counted each time as a new arrival.

³ Organisation for Economic Co-operation and Development (2014), “Croatia”, in OECD Tourism Trends and Policies 2014, OECD Publishing. (Data cited by OECD was sourced from Croatian Bureau of Statistics data on tourism: http://www.dzs.hr/default_e.htm.)

Table 1—Inbound Tourism: Total Arrivals and Primary Countries of Origin, Croatia, 2008-2012
| 2008 | 2009 | 2010 | 2011 | 2012
Total Intl Arrivals (x1000) | 8,665 | 8,694 | 9,111 | 9,927 | 10,369
Top Markets (x1000).
Germany | 1,405 | 1,463 | 1,525 | 1,661 | 1,853
Slovenia | 985 | 963 | 1,017 | 1,100 | 1,054
Italy | 1,009 | 1,058 | 1,018 | 1,150 | 1,051
Austria | 692 | 776 | 810 | 892 | 946
Czech Republic | 589 | 579 | 606 | 638 | 647

While the above data indicates that Croatia has seen an increase in the number of international arrivals over the period indicated, the data does not change our conclusions in the risk evaluation. The updated number of arrivals does not differ substantially from the 2006 number we used in the risk evaluation. Additionally, the primary countries of origin listed in Table 1 for arriving passengers are other European Union (EU) Member States that APHIS recognizes to be free of FMD and rinderpest and low risk for CSF. Germany, Slovenia, Austria, and the Czech Republic are also free of SVD, as are several regions of Italy. We determined in the Croatia risk evaluation and previous swine disease status assessments of the EU and individual Member States that the animal health rules governing trade and travel between Member States mitigate the risk of contagious animal disease transmission through international passenger traffic.

We conclude that the risk of virus introduction into Croatia via the pathway of intentionally smuggled or unintentionally carried prohibited products is effectively mitigated by implementing EU-level and Croatian national policies regarding commodities for personal consumption and by the interdiction efforts of Croatia's Border Veterinary Inspection and International Trade (BVIITS) and Customs departments. As described in the risk analysis, BVIITS and Customs are the Croatian authorities responsible for the inspection and confiscation and disposal of prohibited animal products at Croatia's points of entry. Furthermore, in addition to border controls, we determined in our risk assessment that Croatia has systems in place for surveillance and early detection of CSF, FMD, SVD, and rinderpest should any of these diseases be introduced via incoming passenger traffic into Croatia or any other pathway.

Disease Detection and Surveillance

The commenters stated concerns over the ability of commercial swine operations in Croatia to conduct surveillance for and detect foreign animal diseases. As evidence, the commenters cited in the risk evaluation a reference to an interview we conducted with the operator of a company-owned swine fattening farm, in which the operator seemed more aware of potential production impacts than on the clinical signs that would accompany an outbreak of CSF or SVD. The commenters asked if APHIS is confident that the level of awareness of swine operations in Croatia is sufficient for early detection of trade-limiting foreign animal diseases of swine. They recommended that prior to announcing a decision on Croatia's disease status, we should require Croatia to provide us with verification that the industry has been provided with the training or educational materials necessary to assist in active disease surveillance.

We reply that APHIS is confident in the level of awareness for swine diseases in Croatia's commercial swine operations. This particular commercial fattening farm represents Croatia's high intensity, high biosecurity, vertically integrated production and marketing system. Given the advanced swine husbandry standards, premises monitoring by company veterinarians, swine disease training, awareness and sampling, APHIS considers it highly likely that a trade-limiting swine disease in Croatia would be quickly detected and contained. Additionally, we consider Croatia's commercial swine production system to be the most likely source of pork or pork products for export to the United States, and consider the risk of undetected CSF-, FMD-, or SVD-contaminated products being sourced from this production chain to be low.

Regarding this particular commercial farm and farm operator, despite the observation the commenters cited in the risk evaluation, the same farm operator seemed knowledgeable of farm operations, company procedures, and Croatian veterinary and legal requirements. As noted on page 43 of the risk evaluation, we also observed evidence of strong operational, biosecurity, and recordkeeping practices on that farm, as well as strong veterinary oversight. State veterinary authorities reported that the farm receives educational information distributed by Croatia's Ministry of Agriculture, Fisheries, and Rural Development (MAFRD) and that company officials have attended swine disease symposia organized by the MAFRD Veterinary Directorate, which is the central competent authority for animal health and veterinary services in Croatia. In addition, a company veterinarian visits the premises every 2 weeks on average or when called to provide veterinary care. We also observed that the authorized veterinarian for this farm visits regularly to issue health certificates and movement documents.

Overall, our Croatia risk evaluation determined that Croatia has an effective surveillance system in place for detection of swine diseases, including surveillance strategies for the commercial swine sector. We agree with the commenters that early disease detection is a core element of all trade-participating countries and we saw no evidence that Croatia was lacking in this regard.

Small Farms and Backyard Premises

The commenters noted that we considered the disease risk posed by the small, family-operated breeding farm we visited (and backyard premises in general) to be different from that of vertically integrated commercial swine production systems, particularly with respect to animal disease traceability, animal sampling, and biosecurity. The commenters recommended that, before making a decision on Croatia's disease status, we require Croatia to provide a plan for risk reduction for small farms and backyard premises that addresses improving pre-harvest traceability, disease and biosecurity awareness, and disease sampling strategies that aid in early detection of trade-limiting foreign animal diseases.

In reply, we do consider the disease risk posed by small family-operated breeding farms and backyard premises to differ from the risk associated with Croatia's vertically integrated commercial swine production systems. However, we also observed measures that mitigate the risks associated with the small family-operated breeding farm we visited, including satisfactory operational, husbandry, and biosecurity standards. The farm controlled and catalogued on- and off-farm movements of animals, people, and supplies, and satisfied animal disease traceability requirements. Additionally, this farm was included in Croatia's swine disease surveillance program, as are other small farms in Croatia.

Regarding risk reduction plans, we note that Croatia does have such a plan in place for CSF in the form of legislation that places additional restrictions on swine, pork, and pork products produced in or moving from the counties of Vukovar-Srijem, Sisak-Moslavina, Karlovac, and Brod-Posavina, which are considered higher risk for CSF due to past serological events for CSF in feral swine. The family-operated breeding farm visited by APHIS was in Karlovac County and thus subject to these additional restrictions. As noted in the risk evaluation,⁴ the additional risk reduction measures include specific biosecurity requirements such as cleaning and disinfection of vehicles and equipment. Additional measures also require that domestic swine from premises situated in the higher-risk counties can be marketed within Croatia if they undergo clinical examination and sampling procedures prior to movement from the premises of origin. The swine must also test negative for CSF within the 7 days prior to movement, and no swine must have been introduced to the premises within 30 days prior to movement. Domestic swine from higher-risk counties must be accompanied by a health certificate that includes the number of swine, place of origin, date of clinical examination, and disease sampling and diagnostic test results.

⁴ Section 4, “Active Disease Control Programs,” page 19.

The additional risk reduction measures stipulate that fresh meat, meat preparations, or meat products consisting of or containing meat of swine originating from premises in Karlovac, Vukovar-Srijem, and Sisak-Moslavina Counties may be marketed and sold outside of these counties only if no evidence of CSF has been recorded in the previous 12 months on the premises and the premises is located outside a protection or surveillance zone. The swine are required to have resided for at least 90 days on the premises, and no swine are permitted to have been introduced into the premises within the previous 30 days before dispatch to slaughter. Under the additional risk reduction measures, Croatia also requires each premises to be inspected by an authorized veterinarian, including appropriate clinical examination and sampling of animals, twice per year. If swine are moved directly to slaughter, the animals are required to be clinically examined and sampled by an authorized veterinarian, culminating in a signed health certificate. Finally, the additional restrictions prevent semen, ova, and embryos from swine from these higher-risk counties from being marketed outside of those counties.

Animal Movement Safeguards

The commenters stated concern about the movement of swine within Croatia, noting that swine can be kept in livestock markets for no more than 12 hours and must be returned to the premises if not sold in that time. The commenters noted that commingling of swine outside of a production system or premises of origin at a market presents an elevated risk of disease transmission. For this reason, the commenters asked APHIS to clarify what, if any, regulations apply to reporting that animal movement back to the premises of origin and if there are any quarantine or movement restrictions or disease monitoring placed on that animal. The commenters recommended that APHIS ensure that reporting takes place for animal movement back to the premises of origin, that there are quarantine or movement restrictions as necessary, and that official monitoring for disease be in place and verified by Croatia.

We agree with the commenters that commingling of potentially infected but undetected swine in markets could contribute to rapid transmission and spread of contagious swine diseases. We acknowledged on page 46 of our risk evaluation that backyard premises with a single pig are exempt from most of Croatia's premises and animal registration requirements and that this presents a gap in animal disease traceability. We also acknowledged that backyard premises may present a biosecurity gap as some may not always conduct animal disease sampling or collect, analyze, and respond to changes in production data.

However, we consider it unlikely that animals/products from small farms or backyard premises will enter the export chain, as the movement and marketing patterns of Croatia's small farms and family premises are local and domestic in scope. Additionally, we concluded from our risk evaluation that the risk of disease transmission in small farm and backyard premises is mitigated at the premises and market levels. Although these premises are exempt from entry in the Croatian Agricultural Agency's Farm Register database, they must report the purchase of any pig to the competent veterinary organization at the time of delivery. Moreover, as the pig is most likely fed and fattened for personal consumption, we consider it unlikely that the pig would be moved off of a single- or double-swine backyard premises. Any swine that do move from a small premises require a movement permit and corresponding health certificate, and would most likely enter the local livestock market and be subject to the regulations enforced there. Livestock market regulations include the requirement that each animal consignment arriving to the market must be accompanied by a veterinary health certificate, issued within 30 days prior to movement, indicating veterinary inspection was performed prior to animals leaving the premises, as well as a travel document indicating that the transport vehicle underwent cleaning and disinfection.

Finally, the risk associated with an infected animal arriving at an animal market and being sent back to the premises of origin is also mitigated by veterinary inspection and corresponding documentation prior to animals moving to the market, as well as by the requirement that transport vehicles be disinfected.

Disease risk is further mitigated by other control measures that can be implemented in the event that a contagious animal disease is suspected or confirmed. The measures we observed included disinfection wheelbaths for vehicles and footbaths for people, and requiring that employees don personal protective clothing prior to entering the sale and transfer part of the market. Animal disease awareness educational pamphlets and contingency plans were on display in the market office, and the market has participated in disease outbreak simulation exercises.

Overall, we determined that Croatia has a sufficient infrastructure in place for reporting movement of pigs, including livestock markets, and concluded that disease monitoring took place at all critical points of Croatia's movement and marketing channels.

Surveillance for African Swine Fever

The commenters noted that Croatia conducts active surveillance for CSF, SVD, and FMD. However, they asked if we could determine whether active or passive surveillance is conducted for African swine fever (ASF), and whether the veterinary authority in Croatia rules out ASF in swine that present for inspection with case-compatible lesions.

We do not currently consider Croatia affected with ASF and did not conduct an evaluation of Croatia's ASF status. Thus, as the commenters acknowledged, passive and active surveillance for ASF are not specifically related to the risk assessment, which was conducted specifically for CSF, FMD, SVD, and rinderpest. However, we did conclude that Croatia maintains effective CSF and FMD emergency response plans, so if a disease investigation was triggered by case-compatible lesions we consider it highly likely that ASF would be appropriately confirmed or ruled out by Croatian veterinary officials.

We acknowledge that ASF has been a concern in the EU and in areas adjacent to the EU. The EU has laid down prevention and control measures ⁵ to be applied where ASF is suspected or confirmed, either in agricultural establishments or in wild boars. As an EU Member State, Croatia is required to implement EU-mandated prevention and control measures for all swine diseases, including ASF. APHIS continues to monitor the ASF situation in the EU, and Croatia would be subject to any restrictive action that APHIS takes towards the EU or individual Member States to mitigate the risk of introduction of ASF.

⁵ http://eur-lex.europa.eu/LexUriServ/LexUriServ.do?uri=CELEX:02002L0060-20080903:EN:NOT.

CSF Testing Methods

The commenters stated that the methods of investigation and testing in Croatia for suspected cases of CSF included in the risk evaluation appear to be inconsistent with the laboratory methods conducted in the United States that ensure rapid detection of CSF from samples submitted from a farm. The commenters suggested that this inconsistency could result in a significant delay in confirming the presence of CSF on farms in Croatia with case-compatible lesions and recommended that the competent veterinary authority of Croatia be required to improve laboratory detection methods so they are equivalent to those used in the United States.

Under OIE guidelines, APHIS import risk analyses are required to assess whether the end result of a sanitary measure or standard, in this case CSF detection methodology and disease confirmation, is equivalent to the end result of the importing country's measure or standard. While Croatia's CSF investigation and testing procedures may diverge slightly from U.S. protocols, we concluded from information gathered during the site visit that Croatia's CSF diagnostic testing protocols are in accordance with international standards and their end result would be rapid detection of CSF. We determined that Croatia's laboratory system was capable of quickly and accurately receiving, processing, and completing diagnostic tests on samples received. We also determined that these labs were able to accurately diagnose CSF, FMD, and SVD, distinguish them from differential diagnoses, and quickly communicate test results to the Croatian Veterinary Directorate and back to the field. Finally, we determined that Croatia's epidemiological investigations will capably trigger an appropriate surveillance response that would result in timely and accurate diagnosis of CSF.

Contaminated Food Waste

The commenters questioned our determination that contaminated food waste from Croatia poses a low disease risk to swine in the United States, noting that the risk findings we cited to help support this determination were conducted in 1995 and 2001 and do not reflect current risks to the U.S. pork industry.

One risk the commenters cited was the increased interstate trade of swine from States that allow the regulated feeding of garbage. The commenters recommended that the 1995 assessment be repeated using more recent data.

To the commenter's point, if contaminated meat products were imported from Croatia and managed to make it into plate waste, U.S. garbage feeding regulations will mitigate that risk. In 1995, we conducted a pathway analysis to estimate the likelihood of exposing domestic swine to infected waste. With 95 percent confidence, we estimated that 0.023 percent or less of plate and manufacturing waste would be inadequately processed prior to feeding to swine. Based on this percentage, less than 1 part in 4,300 of imported beef fed to swine as plate or manufacturing waste is likely to be inadequately cooked. The findings of a 2001 APHIS survey, which showed a substantial reduction in waste-feeding operations, further indicated that the risk of FMD exposure via feeding of contaminated waste to swine was continuing to decline.

Treatment of food waste to be fed to swine is covered under the Swine Health Protection Act ⁶ (SHPA) regulations in 9 CFR part 166 and supported by APHIS' Veterinary Service (VS) Swine Health Program (SHP). Under the regulations, waste feeder operations must be licensed and regularly inspected by APHIS inspectors. In addition to other safeguards, the licensing process requires that producers adequately cook the waste fed to swine using methods designed to destroy foreign animal disease agents.

⁶ 7 U.S.C. 3801.

We acknowledge that waste feeding continues to be a potential pathway for transmission of swine diseases and that interstate trade patterns are subject to change. We maintain, however, that the 1995 and 2001 risk findings, combined with existing SHPA requirements, indicate to us a low likelihood of exposure of domestic swine to CSF, FMD, SVD, and rinderpest from food waste originating from Croatia.

Verification of Garbage Heating Requirements

The commenters noted that the SHPA requires licensed facilities to have quarterly or bi-yearly temperature checks of garbage-cooking equipment for a minimum of two and a maximum of four temperature checks each fiscal year. The commenters asked how many of the licensed garbage feeders actually were temperature checked twice in 2014 by a regulatory official. They indicated concerns with the records licensed facilities maintain to verify that they are meeting cooking time and temperature requirements on days they are not inspected, and recommended that we determine what records licensed facilities maintain in order to provide such verification to State and Federal animal health officials.

While we require that licensed U.S. garbage-feeding facilities observe all garbage heating requirements under the SHPA regulations, cooking temperature and treatment requirements are outside the scope of this risk evaluation. Regulations addressing these practices are contained in 9 CFR part 166 and include provisions for inspection of heating equipment and records. Garbage-feeding facilities suspected of violating the regulations for storing and heating garbage for feeding are subject to license suspension or revocation.

Unlicensed Garbage Feeders

The commenters presented data from APHIS-VS reports to the U.S. Animal Health Association's Transmissible Diseases of Swine Committee indicating that, from 2009 to 2013, the number of non-licensed garbage feeders found by State and Federal animal health authorities in searches for non-licensed feeders was 104, 142, 68, 125, and 160, respectively. The commenters asked if APHIS has any supporting information on estimates of the number of unlicensed garbage-feeding facilities. Citing the disease risk posed by unlicensed garbage-feeding operations, the commenters expressed concern with our level of confidence that foreign animal diseases can be detected promptly in unlicensed garbage-feeding operations and asked if our emphasis on finding non-licensed feeders increased or decreased over the past couple of years. Procedures for the handling, processing, and feeding of food waste to swine in the United States are subject to our swine health protection regulations in 9 CFR part 166. Compliance with the regulations has improved in recent years, thereby reducing the probability of survival of FMD virus in the food waste. Searches for non-licensed garbage feeding facilities are regularly conducted using several different techniques as part of the duties of APHIS animal health staff, as well as State animal health and other State agency staff. During fiscal year 2014, animal health and other inspectors conducted 28,774 searches for non-licensed garbage feeding facilities with 122 documented non-licensed facilities identified, which indicates that unlicensed activity is infrequent.

When unlicensed garbage feeding facilities are identified, the unauthorized activity is documented, and the facility is brought into compliance. Depending on the State, all swine on such premises may be quarantined and tested for foreign animal diseases. Information on the number of inspections conducted to detect unlicensed garbage feeding facilities, the number of unlicensed facilities identified, and resolution of cases resulting from such identification are captured at the State level and evaluated by APHIS on a regular basis. Given the regular monitoring of these facilities and their relatively small number, we stand by the conclusions we reached in our 1995 risk analysis cited above.

SHPA Budget

The commenters stated a concern that budget cuts to APHIS-VS and State animal health officials have negatively affected the ability to effectively carry out the regulatory activities supporting the SHPA. They also expressed concern that the reduction in such activities has reduced the number of inspection and searches for unlicensed garbage-feeding operations to a level that is lower than what was indicated in the 1995 risk analysis.

Budget cuts to APHIS have necessitated a reordering of priorities in relation to SHPA-related activities. We have deemphasized or passed on to State partners or other cooperators lower-yield activities, such as visiting restaurants to inquire about garbage-disposal methods, in favor of allowing inspectors to spend more time interacting with and educating swine producers and conducting inspections. The regular presence of APHIS inspectors in U.S. garbage feeding facilities provides opportunities to educate operators on disease signs and reporting requirements and to conduct direct observation of animals for signs of illness. APHIS believes, therefore, that the presence of animal products infected with FMD or other reportable conditions entering the United States would be detected more quickly in these types of premises than in other, unregulated premises.

Environmental Assessment

The commenters noted that the environmental assessment (EA) provided with this rulemaking was the May 2011 EA for the importation of swine and swine commodities from Slovakia. They also noted that APHIS provided a supporting document that was an amended finding of no significant impact (FONSI) from importation of swine and swine commodities from Croatia that uses the EA from Slovakia as the basis for the amended finding related to Croatia. The commenters requested that APHIS expand on how it is justifiable to use an EA prepared for other countries and apply it to Croatia.

APHIS has conducted animal health status evaluations for multiple EU Member States for swine diseases. Since 2006 we have recognized the CSF, FMD, SVD, and/or rinderpest status for EU Member States Latvia, Lithuania, Poland, the Czech Republic, Slovakia, Slovenia, Estonia, and Hungary, and for certain countries that have entered into agricultural equivalence agreements with the EU. In each case, we determined that measures are in place to mitigate the risk of CSF, SVD, FMD, and/or rinderpest introduction into the United States through importation of swine, swine commodities, ruminants, and ruminant commodities from countries or regions that we recognize as low risk for CSF and free of SVD, FMD, and rinderpest.

Given that the EU applies and ensures enforcement of the same disease mitigation requirements across all EU Member States, we recognized that the single-state evaluations we were conducting were redundant and thus unnecessary with respect to meeting the requirements of the National Environmental Protection Act (NEPA). After we consulted with Agency specialists on NEPA, we did an environmental impact analysis comparison of the 2011 Slovakia EA analysis in regards to the proposed action of this notice for the EU Member State Croatia and determined that the environmental analyses of the Slovakia EA were similar and sufficient to cover the proposed action for Croatia. The 2011 Slovakia EA stated that for any like/similar future regionalization actions proposed for EU Member States, APHIS would incorporate the Slovakia EA by reference in a new FONSI issued for a proposed new action for an EU Member State. That is what we have done for this proposed action for Croatia.

Additionally, we determined that future proposed actions of this nature pose negligible environmental impacts to each EU Member State or country that has entered into an agricultural equivalency agreement with the EU, provided that a disease assessment finds them to be free of or a low risk for relevant diseases. As Croatia is an EU Member State and because we have determined that Croatia is free of SVD, FMD, and rinderpest, and at low risk for CSF, we believe that the “like/similar action” environmental analyses approach as presented in the 2011 Slovakia EA/FONSI is appropriate to use for the proposed action for Croatia.

Based on the evaluation and the reasons given in this document in response to comments, we are recognizing Croatia as free of FMD, rinderpest, and SVD, and low risk for CSF. The lists of regions recognized as free or at low risk of these diseases can be found by visiting the APHIS Web site at http://www.aphis.usda.gov/wps/portal/aphis/ourfocus/importexport and following the link to “Animal or Animal Product.” Copies of the lists are also available via postal mail, fax, or email upon request to the Regionalization Evaluation Services, National Import Export Services, Veterinary Services, Animal and Plant Health Inspection Service, 4700 River Road Unit 39, Riverdale, Maryland 20737.

Authority: 7 U.S.C. 450, 7701-7772, 7781-7786, and 8301-8317; 21 U.S.C. 136 and 136a; 31 U.S.C. 9701; 7 CFR 2.22, 2.80, and 371.4.

Done in Washington, DC, this 19th day of October 2015.
Kevin Shea,
Administrator, Animal and Plant Health Inspection Service.

[FR Doc. 2015-27092 Filed 10-22-15; 8:45 am]

BILLING CODE 3410-34-P